Proclamation 8457 of November 20, 2009

National Child’s Day, 2009

By the President of the United States of America

A Proclamation

America’s children deserve every opportunity to reach their fullest potential, and it is our responsibility to ensure they have the tools required to grow and flourish. This includes providing our young people with access to affordable, high-quality health care and an education that both informs and inspires. On National Child’s Day, we celebrate the promise living within every child.

Ensuring the health and well-being of our Nation’s children is one of our highest responsibilities. I was proud to sign the reauthorization of the Children’s Health Insurance Program (CHIP), extending health care to millions of young Americans who were previously uninsured. When given proper nutrition and medical care, healthy children can become productive, healthy adults.

My Administration is also committed to giving our children the educational support necessary for their development and future success. That is why we announced our Race to the Top award program, which challenges States to compete for over $4 billion in grants designed to spur systemic reform and embrace innovative approaches to teaching and learning in America’s schools. If we are willing to come together and embrace a spirit of common purpose, our schools will perform better and our students will reach farther.

Across America, countless individuals selflessly provide their time and energy in our homes, schools, and community organizations to ensure our sons and daughters may one day realize their dreams. Today, we recommit ourselves to the vision of our founders to give all our children a fair chance and an equal start in life.

NOW, THEREFORE, I, BARACK OBAMA, President of the United States of America, by virtue of the authority vested in me by the Constitution and the laws of the United States, do hereby proclaim November 22, 2009, as National Child’s Day. I call upon all citizens to observe this day with appropriate programs, ceremonies, and activities.

IN WITNESS WHEREOF, I have hereunto set my hand this twentieth day of November, in the year of our Lord two thousand nine, and of the Independence of the United States of America the two hundred and thirty-fourth.

[FR Doc. E9-28484

Filed 11-24-09; 11:15 am]

Billing code 3195-W0-P